DEPARTMENT OF JUSTICE

[OMB Number 1105-0086]

Agency Information Collection Activities; Proposed Renewal of Previously Approved Collection; Comments Requested: Attorney Student Loan Repayment Program Electronic Forms

ACTION: 30-Day notice.

The Department of Justice (DOJ), Justice Management Division, Office of Attorney Recruitment and Management (OARM), will be submitting the following information collection request to the Office of Management and Budget (OMB) for review and approval in accordance with the Paperwork Reduction Act of 1995. Office of Management and Budget (OMB) approval is sought for the information collection listed below. This proposed information collection was previously published in the Federal Register, Number 138, page 42974-42975, on July 18, 2013, allowing for a 60-day public comment period.

The purpose of this notice is to allow an additional 30 days for public comment until October 23, 2013. This process is conducted in accordance with 5 CFR 1320.10.

Written comments and/or suggestions regarding the item(s) contained in the notice, especially regarding the estimated public burden and associated response time, should be directed to the Office of Management and Budget, Office of Information and Regulatory Affairs, Attention: Department of Justice Desk Officer, Washington, DC 20530.

Additionally, comments may be submitted to OMB via facsimile to 202-395-7285. Comments may also be submitted to Deana Willis, Assistant Director, Office of Attorney Recruitment and Management, United States Department of Justice, Suite 10200, 450 5th Street NW., Washington, DC 20530.

Written comments and suggestions from the public and affected agencies should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Renewal of a Currently Approved Collection.

(2) The title of the collection: Applications for the Attorney Student Loan Repayment Program.

(3) The agency form number, if any, and the applicable component of the department sponsoring the collection:

Form Number: 1105-0086. Office of Attorney Recruitment and Management, Justice Management Division, U.S. Department of Justice.

(4) Affected public who will be asked or required to respond, as well as a brief abstract: Primary: Individuals or households. Other: None. The Department of Justice Attorney Student Loan Repayment Program (ASLRP) is an agency recruitment and retention incentive program based on 5 U.S.C. 5379, as amended, and 5 CFR part 537. The Department selects participants during an annual open season each spring. Anyone currently employed as an attorney or hired to serve in an attorney position within the Department may request consideration for the ASLRP. The Department selects new attorneys each year for participation on a competitive basis and renews current beneficiaries who remain qualified for these benefits, subject to availability of funds. There are two types of application forms—one is for new requests, and the other for renewal requests. In addition, there is a three-year service agreement form.

(5) An estimate of the total number of respondents and the amount of time estimated for an average respondent to respond/reply: The Department anticipates that on a yearly basis, about 225 respondents will complete the application for a new request. In addition, each year the Department expects to receive approximately 175 applications from attorneys and law clerks requesting renewal of the benefits they received in previous years. It is estimated that each new application will take one (1) hour to complete, and each renewal application approximately 15 minutes to complete.

(6) An estimate of the total public burden (in hours) associated with the collection: The total estimated annual public burden associated with this collection is 269 hours.

If additional information is required, contact Jerri Murray, Department Clearance Officer, United States Department of Justice, Justice Management Division, Policy and Planning Staff, Two Constitution Square, 145 N Street NE., Room 1407-B, Washington, DC 20530.

Dated: September 18, 2013.
Jerri Murray,
Department Clearance Officer, PRA, U.S. Department of Justice.

[FR Doc. 2013-23027 Filed 9-20-13; 8:45 am]

BILLING CODE 4410-PB-P